DEPARTMENT OF ENERGY

Federal Energy Regulatory Commission

[Docket No. RP03-544-000]

Texas Gas Transmission, LLC formerly Texas Gas Transmission Corporation; Notice of Proposed Changes in FERC Gas Tariff

July 9, 2003.

Take notice that on July 3, 2003, Texas Gas Transmission, LLC (Texas Gas), formerly Texas Gas Transmission Corporation, tendered for filing a proposed tariff sheet to its FERC Gas Tariff, First Revised Volume No. 1, as listed below, to be effective July 7, 2003:

Sixth Revised Sheet No. 234

Texas Gas states that it is filing the proposed changes to its General Terms and Conditions in order to clarify that it possesses the authority to bill taxes, levies, and other charges imposed on Customers by regulatory agencies or taxing authorities where Texas Gas is required by law to collect such amounts from Customer(s) and remit these amounts to the respective agencies or authorities.

Texas Gas states that copies of the revised tariff sheet are being mailed to all parties on Texas Gas's official service list, to Texas Gas's jurisdictional customers, and to interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: July 15, 2003.

Magalie R. Salas,
Secretary.

[FR Doc. 03-17893 Filed 7-15-03; 8:45 am]

BILLING CODE 6717-01-P